DEPARTMENT OF THE INTERIOR

Bureau of Land Management

[AZ-910-0777-26-241A]

State of Arizona Resource Advisory Council Meeting

AGENCY: Bureau of Land Management, Interior.

ACTION: Arizona Resource Advisory Council Meeting notice.

SUMMARY: This notice announces a meeting of the Arizona Resource Advisory Council (RAC). The meeting will be held on Wednesday, May 16, in Phoenix, Arizona. The business meeting will be held in the BLM National Training Center, 9828 North 31st Avenue. It will begin at 9 a.m. and will conclude at approximately 4 p.m. The agenda items to be covered include the review of the December 12, 2000, and January 24, 2001 meeting minutes; BLM State Director's Update on legislation, regulations and statewide planning efforts; Update on 3809 Surface Management Regulations for Locatable Mineral Operations; Presentation on Fiber-Optic Rush 2001, Wild Horse and Burro Monitoring/Census Update; Update Proposed Field Office Rangeland Resource Teams; Reports from BLM Field Office Managers; Reports by the Standards and Guidelines, Recreation and Public Relations, Wild Horse and Burro Working Groups; Reports from RAC members; and Discussion of future meetings. A public comment period will be provided at 11:30 a.m. on May 16, 2001, for any interested publics who wish to address the Council.

FOR FURTHER INFORMATION CONTACT: Deborah Stevens, Bureau of Land Management, Arizona State Office, 222 North Central Avenue, Phoenix, Arizona 85004-2203, (602) 417-9215.

Denise P. Meridith,
Arizona State Director.

[FR Doc. 01-10751 Filed 4-30-01; 8:45 am]

BILLING CODE 4310-32-M